DEPARTMENT OF ENERGY

Proposed Agency Information Collection: Realty—Application for Proposed Use of Right-of-Way

AGENCY: Bonneville Power Administration, Department of Energy.

ACTION: Notice of information collection; request for comments.

SUMMARY: The Department of Energy (DOE), Bonneville Power Administration (BPA), invites public comment on a collection of information that BPA is developing for submission to the Office of Management and Budget (OMB) pursuant to the Paperwork Reduction Act of 1995.

DATES: Comments regarding this proposed information collection must be received on or before September 15, 2021.

ADDRESSES: Written comments may be sent to Bonneville Power Administration, Attn: Theodore Rydmark, Privacy Program, CGI-7, P.O. Box 3621, Portland, OR 97208-3621, or by email at privacy@bpa.gov.

FOR FURTHER INFORMATION CONTACT: Requests for additional information or copies of the information collection instrument and instructions should be directed to Attn: Theodore Rydmark, Privacy Program, by email at privacy@bpa.gov, or by phone at 503-230-5253.

SUPPLEMENTARY INFORMATION: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: New;

(2) Information Collection Request Title: Realty—Application for Proposed Use of BPA Right-of-Way;

(3) Type of Request: New;

(4) Purpose: This information collection is associated with BPA's management and oversight of applications for public use of BPA right-of way. The general public completes the following form: BPA F4300.03e;

(5) Estimated Number of Respondents: 400;

(6) Annual Estimated Number of Respondents: 400;

(7) Annual Estimated Number of Burden Hours: 200;

(8) Annual Estimated Reporting and Recordkeeping Cost Burden: 0;

Statutory Authority: 16 U.S.C. 832a(c).

Signing Authority: This document of the Department of Energy was signed on June 24, 2021, by Candice D. Palen, Information Collection Clearance Manager, Bonneville Power Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 30, 2021.
Treena V. Garrett,
Federal Register Liaison Officer, U.S. Department of Energy.

[FR Doc. 2021-14334 Filed 7-2-21; 8:45 am]

BILLING CODE 6450-01-P